DEPARTMENT OF THE TREASURY

Office of Foreign Assets Control

Publication and Update of the List of Services, Software, and Hardware Incident to Communications

AGENCY: Office of Foreign Assets Control, Treasury.

ACTION: Publication and update of a list of items determined to be incident to communications in the Iranian Transactions and Sanctions Regulations.

SUMMARY: The Department of the Treasury's Office of Foreign Assets Control (OFAC) is updating a list of items published in the Federal Register that have been determined to be incident to communications and therefore authorized for export or reexport to Iran under a general license issued pursuant to the Iranian Transactions and Sanctions Regulations (ITSR). OFAC is updating the list to restrict the computing power of certain items on the list.

DATES: This list is effective June 17, 2024.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

The text of the List of Services, Software, and Hardware Incident to Communications is available on the Iran Sanctions page on OFAC's website, and additional information concerning OFAC is available on OFAC's website (www.treasury.gov/ofac).

Background

Concurrent with this publication, OFAC published the list of items previously included in the annexes to GL D, GL D-1, and GL D-2 as “List of Services, Software, and Hardware Incident to Communications under 31 CFR 560.540” (the “List”). OFAC is updating the List to add a technical restriction to the computing power of laptops, tablets, and personal computing devices authorized for exportation or reexportation to Iran under category (5) of the List, effective 30 days after publication. The text of the updated List is provided below.

“List of Services, Software, and Hardware Incident to Communications Under 31 CFR 560.540”
[Updated June 17, 2024]
Note: See paragraphs (a)(3)(ii)-(iii) of § 560.540 for authorizations related to certain hardware and software that is of a type described below but that is not subject to the Export Administration Regulations, 15 CFR parts 730 through 774 (EAR).
1. Mobile phones (including smartphones), Personal Digital Assistants (PDAs), Subscriber Identity Module/Subscriber Information Module (SIM) cards, and accessories for such devices designated EAR99 or classified on the CCL under ECCN 5A992.c; drivers and connectivity software for such hardware designated EAR99 or classified under ECCN 5D992.c; and services necessary for the operation of such hardware and software.
2. Satellite phones and Broadband Global Area Network (BGAN) hardware designated EAR99 or classified under ECCN 5A992.c; demand drivers and connectivity software for such hardware designated EAR99 or classified under ECCN 5D992.c; and services necessary for the operation of such hardware and software.
3. Consumer * modems, network interface cards, radio equipment (including antennae), routers, switches, and WiFi access points, designed for 50 or fewer concurrent users, designated EAR99 or classified under ECCNs 5A992.c, 5A991.b.2, or 5A991.b.4; drivers, communications, and connectivity software for such hardware designated EAR99 or classified under ECCN 5D992.c; and services necessary for the operation of such hardware and software.
4. Residential consumer * satellite terminals, transceiver equipment (including to antennae, receivers, set-top boxes and video decoders) designated EAR99 or classified under ECCNs 5A992.c, 5A991.b.2, or 5A991.b.4; drivers, communications, and connectivity software for such hardware designated EAR99 or classified under ECCN 5D992.c; and services necessary for the operation of such hardware and software.
5. Laptops, tablets, and personal computing devices with an “Adjusted Peak Performance” (“APP”) not exceeding 1 Weighted TeraFLOP (WT), and peripherals for such devices (including consumer* disk drives and other data storage devices) and accessories for such devices (including keyboards and mice) designated EAR99 or classified on the CCL under ECCNs 5A992.c, 5A991.b.2, 5A991.b.4, or 4A994.b; computer operating systems and software required for effective consumer use of such hardware designated EAR99 or classified under ECCN 5D992.c; and services necessary for the operation of such hardware and software.
6. Anti-virus and anti-malware software designated EAR99 or classified under ECCN 5D992.c; and services necessary for the operation of such software.
7. Anti-tracking software designated EAR99 or classified under ECCN 5D992.c; and services necessary for the operation of such software.
8. Mobile operating systems, online application for mobile operating systems (app) stores, and related software, including apps designed to run on mobile operating systems, designated EAR99 or classified under ECCN 5D992.c; and services necessary for the operation of such software.
9. Anti-censorship tools and related software designated EAR99 or classified under ECCN 5D992.c; and services necessary for the operation of such software.
10. Virtual Private Network (VPN) client software, proxy tools, and fee-based client personal communications tools including voice, text, video, voice-over-IP telephony, video chat, and successor technologies, and communications and connectivity software required for effective consumer use designated EAR99 or classified under ECCN 5D992.c; and services necessary for the operation of such software.
11. Provisioning and verification software for Secure Sockets Layers (SSL) certificates designated EAR99 or classified under ECCN 5D992.c; and services necessary for the operation of such software.
* For purposes of the “List of Services, Software, and Hardware Incident to Communications under 31 CFR 560.540,” the term “consumer” refers to items that are: (1) generally available to the public by being sold, without restriction, from stock at retail selling points by means of any of the following: (a) over-the-counter transactions; (b) mail order transactions; (c) electronic transactions; or (d) telephone call transactions; and (2) designed for installation by the user without further substantial support by the supplier.

Bradley T. Smith,
Director, Office of Foreign Assets Control.

[FR Doc. 2024-10723 Filed 5-16-24; 8:45 am]

BILLING CODE 4810-AL-P